ENVIRONMENTAL PROTECTION AGENCY

[ER-FRL-6670-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 1, 2005 (70 FR 16815).

Draft EISs

EIS No. 20050415, ERP No. D-FRA-D51028-PA, Pennsylvania High-Speed Maglev Project, Construction between Pittsburgh International Airport (PIA) and Greensburg Area, The Pennsylvania Project of Magnetic Levitation Transportation Technology Deployment Program, Allegheny and Westmoreland Counties, PA

Summary: EPA has environmental concerns about air quality, environmental justice, and the disposal of excavated waste material, and also requests that additional information describing the quality of the habitat that is to be impacted should be provided in the FEIS.

Rating EC2.

EIS No. 20050442, ERP No. D-NOA-D81036-WV, Canaan Valley Institute Office Complex, Proposes to Construct: Offices, Classrooms, Laboratories, 250-Seat Auditorium, Parking Facilities, Outdoor Classrooms and Interpretive Areas, US Army COE Section 404 Permit, Southeast of the Towns of Davis and Thomas, Tucker County, WV

Summary: EPA does not object to the proposed action.

Rating LO.

EIS No. 20050427, ERP No. DB—FTA-L40210-WA, Central Link Light Rail Transit Project (Sound Transit) Construction and Operation of the North Link Light Rail Extension, from Downtown Seattle and Northgate, Updated Information on Refined Design Concepts, Funding, Right-of-Way and US Army COE Section 404 Permits, King County, WA

Summary: EPA does not object to the proposed project.

Rating LO.

Final EISs

EIS No. 20050369, ERP No. F-FHW-D40298-MD, MD-32, Planning Study, Transportation Improvements from MD-108 to Interstate 70, Funding, Howard County, MD

Summary: EPA continues to have environmental concerns about aquatic and terrestrial impacts and the potential problems of induced traffic and secondary development.

EIS No. 20050447, ERP No. F-FHW-F40426-OH, Eastern Corridor Multi-Modal (Tier 1) Project, to Implement a Multi-Modal Transportation Program between the City of Cincinnati and Eastern Suburbs in Hamilton and Clermont Counties, OH

Summary: The FEIS addressed many of EPA's previously stated concerns. However, EPA requests that FHWA provide supporting information for its discussion and conclusions regarding an omitted alternative to widen an existing bridge.

EIS No. 20050470, ERP No. F-NPS-K65275-AZ, Colorado River Management Plan, Analyzing Alternatives for Management of Recreational Use of the Colorado River, Grand Canyon National Park, Coconino County, AZ

Summary: EPA expressed concerns that without appropriate mitigation measures, impacts could result from fuel storage and operations, and other facilities near the river, and recommended the National Park Service commit to working closely with the Hualapai Tribe to develop best management practices to prevent oil spills and discharges of wastes in both Grand Canyon National Park and on the Hualapai Reservation.

EIS No. 20050444, ERP No. FS-FTA-D40289-VA, Norfolk Light Rail Transit System, from the western terminus near Eastern Virginia Medical Center through Downtown Norfolk to an eastern terminus at Newtown Road and Kempsville Road, Funding, US COE Section 404 Permit, USCGD Bridge Permit, City of Norfolk, VA

Summary: EPA does not object to the proposed project.

Dated: December 20, 2005.
Robert W. Hargrove,
Director, NEPA Compliance Division, Office of Federal Activities.

[FR Doc. E5-7772 Filed 12-22-05; 8:45 am]

BILLING CODE 6560-50-P